DEPARTMENT OF HEALTH AND HUMAN SERVICES

National Institutes of Health

Interagency Coordinating Committee on the Validation of Alternative Methods; Notice of Public Meeting; Request for Public Input

AGENCY: National Institutes of Health, HHS.

ACTION: Notice.

SUMMARY: The Interagency Coordinating Committee on the Validation of Alternative Methods (ICCVAM) will hold a public forum to share information and facilitate direct communication of ideas and suggestions from stakeholders. Interested persons may attend in person or view the meeting remotely by webcast. Time will be set aside for questions and public statements on the topics discussed. Registration is requested for attending in person and required for viewing the webcast. Registration is also required for presenting oral statements, whether in person or online. Information about the meeting and registration are available at https://ntp.niehs.nih.gov/go/iccvamforum-2024.

DATES:

Meeting: May 20, 2024, 1 p.m. to approximately 5 p.m. EDT; Tuesday, May 21, 2024, 9 a.m. to approximately 4:30 p.m. EDT.

Registration for Onsite Meeting: Deadline is May 17, 2024.

Registration for Webcast: Deadline is May 21, 2024.

Registration for Oral Statements: Deadline is May 15, 2024.

Registration to attend in person is requested; registration to view the webcast and to present oral public statements (in person or online) is required.

ADDRESSES:

Meeting Location: William H. Natcher Conference Center, National Institutes of Health (NIH), Bethesda, MD 20892.

Meeting web page: Registration and other meeting materials are at https://ntp.niehs.nih.gov/go/iccvamforum-2024. A preliminary agenda will be posted on this page by May 3.

FOR FURTHER INFORMATION CONTACT: Dr. Nicole Kleinstreuer, Director, National Toxicology Program Interagency Center for the Evaluation of Alternative Toxicological Methods (NICEATM), email: nicole.kleinstreuer@nih.gov, telephone: 984-287-3150.

SUPPLEMENTARY INFORMATION:

Background: ICCVAM, a congressionally mandated committee, coordinates the development and validation of alternative testing strategies that protect human health and the environment while replacing, reducing, or refining animal use.

ICCVAM's goals include promotion of national and international partnerships between governmental and nongovernmental groups, including academia, industry, advocacy groups, and other key stakeholders. To foster these partnerships ICCVAM initiated annual public forums in 2014 to share information and facilitate direct communication of ideas and suggestions from stakeholders (79 FR 25136).

This year's meeting will be held on May 20 and 21, 2024. NICEATM and ICCVAM members will give presentations on current activities related to the development and validation of alternative test methods and approaches.

There will be opportunities for participants to ask clarifying or follow-up questions of the ICCVAM members about their presentations. Instructions for submitting these questions will be provided to webcast viewers prior to the event. The agenda will also include time for public oral statements relevant to the ICCVAM mission and current activities from participants who have registered to do so in advance.

Preliminary Agenda and Other Meeting Information: A preliminary agenda will be posted by May 3 at https://ntp.niehs.nih.gov/go/iccvamforum-2024. Interested individuals are encouraged to visit this web page to stay abreast of the most current meeting information.

Meeting and Registration: This meeting is open to the public. The public may attend the meeting at NIH, where attendance is limited only by the space available, or view remotely by webcast. Those planning to attend the meeting in person are encouraged to register at https://ntp.niehs.nih.gov/go/iccvamforum-2024 by May 15, 2024, to facilitate planning for appropriate meeting space. Registration for the webcast is required and is open through 4:30 p.m. EDT on May 21, 2024, at https://ntp.niehs.nih.gov/go/iccvamforum-2024. Registrants will receive instructions on how to access and participate in the webcast in the email confirming their registration.

NIH visitor and security information is available at http://www.nih.gov/about/visitor/index.htm. Individuals with disabilities who need accommodation to participate in this event should contact Nicole Kleinstreuer at phone: 919-407-1609 or email: nicole.kleinstreuer@nih.gov. TTY users should contact the Federal TTY Relay Service at 800-877-8339. Requests should be made at least five business days in advance of the event.

Request for Oral Public Statements: In addition to time for clarifying or follow-up questions following scheduled presentations, time will be allotted during the meeting for oral public statements with associated slides on topics relevant to ICCVAM's mission. Separate registration for those wishing to provide public statements is required and is open through May 15, 2024, at https://ntp.niehs.nih.gov/go/iccvamforum-2024. Any meeting attendee or webcast viewer may ask clarifying questions during the appropriate times in the agenda. The additional registration is only required for those who wish to give separate public statements. The number and length of presentations may be limited based on available time. Submitters will be identified by their name and affiliation and/or sponsoring organization, if applicable. Participants registered to present oral public statements must email their statement to ICCVAMquestions@niehs.nih.gov by May 15, 2024, to allow time for review by NICEATM and ICCVAM and posting to the meeting page prior to the forum. Persons submitting public statements and/or associated slides should include their name, affiliation (if any), mailing address, telephone, email, and sponsoring organization (if any) with the document. Guidelines for public statements are at http://ntp.niehs.nih.gov/ntp/about_ntp/guidelines_public_comments_508.pdf. Persons presenting oral public statements will be contacted to arrange the logistics of their presentations. Presenters should plan for their presentation to run seven minutes or less; each public statement presentation will be followed by up to three minutes to allow for clarifying or follow-up questions. Time allotted for presentations and follow-up questions may be reduced depending on the time available.

Written statements on topics relevant to ICCVAM's mission may be submitted to support an oral public statement or as standalone documents. These should be emailed to ICCVAMquestions@niehs.nih.gov by May 15, 2024. Public statements received prior to the May 15 deadline will be distributed to NICEATM and ICCVAM members before the meeting. Written public statements received after the deadline may be reviewed by NICEATM and ICCVAM at a future date. Materials submitted to accompany oral public statements or standalone written statements should include the submitters name, affiliation (if any), mailing address, telephone, email, and sponsoring organization (if any) with the document. Guidelines for public statements are at http://ntp.niehs.nih.gov/ntp/about_ntp/guidelines_public_comments_508.pdf.

Responses to this notice are voluntary. No proprietary, classified, confidential, or sensitive information should be included in statements submitted in response to this notice or presented during the meeting. This request for input is for planning purposes only and is not a solicitation for applications or an obligation on the part of the U.S. Government to provide support for any ideas identified in response to the request. Please note that the U.S. Government will not pay for the preparation of any information submitted or for its use of that information.

Background Information on ICCVAM and NICEATM: ICCVAM is an interagency committee composed of representatives from 17 Federal regulatory and research agencies that require, use, generate, or disseminate toxicological and safety testing information. ICCVAM conducts technical evaluations of new, revised, and alternative safety testing methods and integrated testing strategies with regulatory applicability. ICCVAM also promotes the scientific validation and regulatory acceptance of testing methods that more accurately assess the safety and hazards of chemicals and products and replace, reduce, or refine animal use.

The ICCVAM Authorization Act of 2000 (42 U.S.C. 285l-3) establishes ICCVAM as a permanent interagency committee of the National Institute of Environmental Health Sciences and provides the authority for ICCVAM involvement in activities relevant to the development of alternative test methods. Additional information about ICCVAM can be found at https://ntp.niehs.nih.gov/go/iccvam.

NICEATM administers ICCVAM, provides scientific and operational support for ICCVAM-related activities, and conducts and publishes analyses and evaluations of data from new, revised, and alternative testing approaches. NICEATM and ICCVAM work collaboratively to evaluate new and improved testing approaches applicable to the needs of U.S. Federal agencies. NICEATM and ICCVAM welcome the public nomination of new, revised, and alternative test methods and strategies for validation studies and technical evaluations. Additional information about NICEATM can be found at https://ntp.niehs.nih.gov/go/niceatm.

Dated: May 3, 2024
Richard P. Woychik,
Director, National Institute of Environmental Health Sciences and National Toxicology Program, National Institutes of Health.

[FR Doc. 2024-10061 Filed 5-7-24; 8:45 am]

BILLING CODE 4140-01-P